DEPARTMENT OF TRANSPORTATION

Federal Aviation Administration

[Policy Statement No. ANM-01-111-165]

Certification of In-seat Power Supply Systems

AGENCY: Federal Aviation Administration (FAA), DOT.

ACTION: Notice of proposed policy statement; request for comments.

SUMMARY: The Federal Aviation Administration (FAA) announces the availability of a proposed policy statement that clarifies current FAA policy with respect to certification of in-seat power supply systems.

DATES: Send your comments on or before September 26, 2001.

ADDRESSES: Address your comments to the individual identified under FOR FURTHER INFORMATION CONTACT.

FOR FURTHER INFORMATION CONTACT: Stephen Slotte, Federal Aviation Administration, Transport Airplane Directorate, Transport Standards Staff, Airplane and Flight Crew Interface Branch, ANM-111, 1601 Lind Avenue SW., Renton, WA 98055-4056; telephone (425)227-2315; fax (425)227-1320; e-mail: steve.slotte@faa.gov.

SUPPLEMENTARY INFORMATION:

Comments Invited

The proposed policy statement is available on the Internet at the following address: http://www.faa.gov/avr/air/anm/draftpolicy/interim.htm. If you do not have access to the Internet, you can obtain a copy of the policy statement by contacting the person listed under FOR FURTHER INFORMATION CONTACT.

The FAA invites your comments on this proposed policy statement. We will accept your comments, data, views, or arguments by letter, fax, or e-mail. Send your comments to the person indicated in FOR FURTHER INFORMATION CONTACT. Mark your comments, “Comments to Policy Statement ANM-01-111-165.”

Use the following format when preparing your comments:

• Organize your comments issue-by-issue.

• For each issue, state what specific change you are requesting to the proposed general statement of policy.

• Include justification, reasons, or data for each change you are requesting.

We also welcome comments in support of the proposed policy.

We will consider all communications received on or before the closing date for comments. We may change the proposed policy because of the comments received.

Background

The policy contained in the memorandum should be applied to all transport airplane programs for an acceptable method of compliance with 14 CFR part 25 for inseat power supply systems (ISPSS) installations.

This policy covers the approval of low voltage and high voltage systems. Nominal output voltages differing from the typical voltage values specified above may also be considered for approval using the guidelines specified in this policy.

This policy does not cover the approval of the use of such portable electrical devices or any interconnecting means used to power such equipment onboard an aircraft.

Issued in Renton, Washington, on August 16, 2001.
Vi L. Lipski,
Manager, Transport Airplane Directorate, Aircraft Certification Service.

[FR Doc. 01-21615 Filed 8-24-01; 8:45 am]

BILLING CODE 4910-13-M